Title 3—

The President

Memorandum of July 7, 2020

Delegation of Authority Under the Better Utilization of Investments Leading to Development Act of 2018

Memorandum for the Secretary of State

By the authority vested in me as President by the Constitution and the laws of the United States of America, including section 301 of title 3, United States Code, I hereby delegate to the Secretary of State the authority vested in the President by section 1412(c)(2)(A) of the Better Utilization of Investments Leading to Development Act of 2018 (title I of division F of Public Law 115-254) (the “Act”) to certify to the appropriate congressional committees that the provision of support under title II of the Act in a less developed country with an upper-middle-income economy furthers the national economic or foreign policy interests of the United States. The delegation in this memorandum shall apply to any provision of any future public law that is the same or substantially the same as the provision referenced in this memorandum.

You are authorized and directed to publish this memorandum in the Federal Register.

THE WHITE HOUSE,

Washington, July 7, 2020

[FR Doc. 2020-16601

Filed 7-28-20; 11:15 am]

Billing code 4710-10-P